DEPARTMENT OF DEFENSE

Office of the Secretary

32 CFR Chapter XII

[Docket ID: DOD-2019-OS-0091]

Defense Logistics Agency

ACTION: Final rule.

SUMMARY: The Department of Defense is publishing this technical amendment to amend the chapter heading that relates to the Defense Logistics Agency (DLA), which is a component of the Department of Defense. In revising this chapter heading, the Department of Defense is establishing that the DLA is a component office and not a separate agency.

DATES: This rule is effective on November 6, 2019.

FOR FURTHER INFORMATION CONTACT: Patricia Toppings at 571-372-0485.

SUPPLEMENTARY INFORMATION: Title 32, Subtitle B, Chapter XII of the CFR is titled “Defense Logistics Agency.” According to the Office of the Federal Register's interpretation of 1 CFR chapter I, the DLA as the sole “owner” of this chapter is the only agency that can amend these regulations. However, the DLA is not an agency separate from the Department of Defense, but a component of it.

Adding the Department of Defense to the heading of chapter XII establishes that the DLA is part of, and subordinate to, the Department of Defense with respect to authority over chapter XII. This ensures that the Department of Defense can also amend chapter XII when necessary. Therefore, the Department of Defense is updating the title of Chapter XII.

SUBTITLE B—[AMENDED]

Accordingly, by the authority of 5 U.S.C. 301, 32 CFR chapter XII is amended by revising the heading of chapter XII to read Chapter XII—Department of Defense, Defense Logistics Agency.

Dated: October 25, 2019.
Aaron T. Siegel,
Alternate OSD Federal Register Liaison Officer, Department of Defense.

[FR Doc. 2019-23685 Filed 11-5-19; 8:45 am]

BILLING CODE 5001-06-P